DEPARTMENT OF THE INTERIOR

Fish and Wildlife Service

[FWS-R6-ES-2021-N020; FXES11130600000]

Endangered and Threatened Wildlife and Plants; Draft Recovery Plan for Parachute Beardtongue

AGENCY: Fish and Wildlife Service, Interior.

ACTION: Notice of document availability for review and comment.

SUMMARY: We, the U.S. Fish and Wildlife Service, announce the availability of a draft recovery plan for Parachute beardtongue, a plant species listed as threatened under the Endangered Species Act. We are requesting review and comment from the public on this draft plan.

DATES: We must receive any comments on the draft recovery plan on or before February 14, 2022.

ADDRESSES: Document availability: Copies of the draft recovery plan are available at http://www.fws.gov/endangered/species/recovery-plans.html and at https://ecos.fws.gov/ecp/species/7099. Alternatively, you may request a copy by U.S. mail from the Western Colorado Field Office; 445 W Gunnison Ave., #240; Grand Junction, CO 81501; or by telephone at 970-243-2778. Persons who use a telecommunications device for the deaf may call the Federal Relay Service at 800-877-8339.

Submitting comments: If you wish to comment on the draft recovery plan, you may submit your comments in writing by email to Ann Timberman, at ann_timberman@fws.gov, or by U.S. mail to Ann Timberman, Western Slope Field Supervisor, at the above U.S. mail address.

FOR FURTHER INFORMATION CONTACT: Ann Timberman, Western Slope Field Supervisor, at the above U.S. mail address or by telephone at 970-243-2778. Persons who use a telecommunications device for the deaf may call the Federal Relay Service at 800-877-8339.

SUPPLEMENTARY INFORMATION: We, the U.S. Fish and Wildlife Service (Service), announce the availability of a draft recovery plan for Parachute beardtongue (Penstemon debilis), a plant species listed as threatened under the Endangered Species Act of 1973, as amended (Act; 16 U.S.C. 1531 et seq.). The draft recovery plan includes objective, measurable criteria, and site-specific management actions as may be necessary to remove the species from the Federal List of Endangered and Threatened Plants. We are requesting review and comment from the public on this draft recovery plan.

Species Information

On August 26, 2011, we listed Parachute beardtongue as a threatened plant species (July 27, 2011; 76 FR 45054). On September 12, 2012, we designated critical habitat for the species (August 13, 2012; 77 FR 48367).

Parachute beardtongue is a rare endemic plant found in the oil shale outcrops of the Roan Plateau escarpment above the Town of Parachute, in Garfield County, Colorado. Parachute beardtongue has adapted to survive on steep, unstable shale slopes. When its leaves are buried by the shifting, unstable talus, Parachute beardtongue elongates its stems downslope until it finds a sufficiently stable surface on which to develop a new tuft of leaves and flowers. All of the currently known Parachute beardtongue occurrences occupy approximately 64 acres (ac) (25.9 hectares (ha)) spread throughout a corridor approximately 2 miles (mi) (3 kilometer (km)) wide and 17 mi (27 km) long in Garfield County, Colorado. There are six known subpopulations of Parachute beardtongue, with an estimated total of 6,954 to 7,404 individual plants rangewide. Threats to the species include the loss and fragmentation of habitats associated with energy development, road maintenance, loss of individuals due to stochastic events, and the inadequacy of regulatory mechanisms.

We conducted a species status assessment (SSA) for Parachute beardtongue and documented our analysis in an SSA report (Service 2020), which is an in-depth, scientific review of the species' biology and threats, an evaluation of its biological status, and an assessment of the resources and conditions needed to maintain populations over time. In our SSA, we identified individual, population, and species requirements, or needs, and the factors affecting the species' survival. We then evaluated the species' current condition in order to assess the species' current and future viability in terms of its resiliency, redundancy, and representation. The SSA is an in-depth but not exhaustive review of the species' biology and threats, an evaluation of biological status, and an assessment of the resources and conditions needed to maintain long-term viability. The SSA provides the scientific background and threats assessment for our draft recovery plan (Service 2020).

In our SSA analysis, we used measures of subpopulation size, pollinator connectivity, pollinator abundance, average annual precipitation, and average annual temperature to assess the current condition of each subpopulation. As summarized in our SSA report, of the six known subpopulations of Parachute beardtongue, two are no longer considered viable without introducing transplanted individuals, due to the small number of individuals in each of them (Service 2020, pp. 27-34). The Mount Callahan Natural Area subpopulation contains the vast majority of Parachute beardtongue individuals, with 81 to 86 percent of all Parachute beardtongue plants (Service 2020, p. 13). Two subpopulations with few plants ranked low in overall resiliency. All other subpopulations ranked moderate resiliency (Service 2020, p. 27).

Please refer to our species status assessment (SSA) report for additional discussion and full analysis of the life history, ecology, and biological status for Parachute beardtongue (Service 2020).

Recovery Planning Process

Restoring an endangered or threatened animal or plant to the point where it is again a secure, self-sustaining member of its ecosystem is a primary goal of the Service's endangered species program. Recovery means improving the status of a listed species to the point at which listing is no longer necessary according to the criteria specified under section 4(a)(1) of the Act. The Act requires recovery plans for listed species unless such a plan would not promote the conservation of a particular species. To help guide recovery efforts, we prepare recovery plans to promote the conservation of the species.

The purpose of a recovery plan is to provide a recommended framework for the recovery of a species so that protection of the Act is no longer necessary. Pursuant to section 4(f) of the Act, a recovery plan must, to the maximum extent possible, include:

(1) A description of site-specific management actions as may be necessary to achieve the plan's goal for the conservation and survival of the species;

(2) Objective, measurable criteria which, when met, would support a determination under section 4(a)(1) of the Act that the species should be removed from the List of Endangered and Threatened Species; and

(3) Estimates of time and costs required to carry out those measures needed to achieve the plan's goal and to achieve intermediate steps toward that goal.

We used our new Recovery Planning and Implementation (RPI) process to develop the draft recovery plan for Parachute beardtongue. The RPI process helps reduce the time needed to develop and implement recovery plans, increases the relevancy of the recovery plan over longer timeframes, and adds flexibility so that the recovery plan can be more easily adjusted to new information and circumstances. Under our RPI process, a recovery plan will include the three statutorily required elements for recovery plans—objective and measurable criteria, site-specific management actions, and estimates of time and cost—along with a concise introduction and our strategy for how we plan to achieve species recovery. The RPI recovery plan is supported by a separate species status assessment for Parachute beardtongue (Service 2020), which provides the scientific background information and threat assessment for the species, which are key to the development of the recovery plan. The SSA report is an in-depth, but not exhaustive, review of the species' biology and threats, an evaluation of its biological status, and an assessment of the resources and conditions needed to maintain long-term viability (Service 2020). A third, separate working document, called the recovery implementation strategy (RIS), steps down the more general descriptions of actions in the recovery plan to detail the specifics needed to implement the recovery plan at the population and individual levels, which improves the flexibility of the recovery plan. The RIS will be adaptable, with new information on actions incorporated, as needed, without requiring a concurrent revision to the recovery plan, unless changes to the three statutory elements are required.

Draft Recovery Plan

Below, we summarize components from our draft recovery plan. Please reference the draft recovery plan for full details (see ADDRESSES).

The draft recovery plan describes the recovery vision for Parachute beardtongue as its conservation and survival. Recovery would be signified by at least four resilient subpopulations across the species' range. Recruitment over time in each of the four subpopulations would equal or exceed the loss of individuals, and ecological and genetic diversity would be maintained across these subpopulations (representation). Each of the four subpopulations would contain a minimum of 500 individuals, a minimum viable population (MVP) size necessary for a subpopulation to maintain high resiliency (Service 2020, p. 26). These conditions would provide sufficient resiliency, redundancy, and representation for recovery.

The recovery strategy for Parachute beardtongue would focus on conserving four known subpopulations, primarily by protecting the habitat within these subpopulations by reducing current threats to improve the resiliency of subpopulations. This would be achieved by implementing recovery actions, such as monitoring subpopulations, surveying for additional subpopulations, documenting changes in the species' range, and conducting research to address uncertainties.

The draft recovery plan emphasizes the conservation of larger, more resilient subpopulations of Parachute beardtongue. However, preservation of smaller subpopulations is also important for preserving the genetic diversity of the species. Given these considerations and the input of species experts, this recovery plan requires the conservation of four of the currently known subpopulations of Parachute beardtongue, such that the genetic and ecological representation of the species across its range is preserved. The other two currently known subpopulations of Parachute beardtongue contain no upslope seed sources, and so few individuals that they are not considered viable; therefore, in their current state, these two subpopulations are likely not contributing in a meaningful way to the viability of the species.

The draft recovery plan includes recovery criteria for delisting Parachute beardtongue. The delisting criteria for Parachute beardtongue are summarized below, with additional detail provided in the draft recovery plan:

(1) At least four subpopulations of Parachute beardtongue maintain stable or increasing growth rates (lambda equal or greater than 1), as described in greater detail in the draft recovery plan;

(2) At least four subpopulations, as identified under Criterion 1, meet or exceed abundance estimates of at least 500 Parachute beardtongue individuals over the same 10-year time period applied to Criterion 1, as described in greater detail in the draft recovery plan;

(3) At least four subpopulations, as identified above under Criterion 1, have regulatory mechanisms or other conservation plans in place that reduce or ameliorate threats to the Parachute beardtongue associated with habitat loss and fragmentation, in perpetuity, such that Parachute beardtongue habitats in each of the four identified subpopulations are of sufficient quantity and quality to support the demographic thresholds identified under Criteria 1 and 2, as described in greater detail in the draft recovery plan; and

(4) All four currently known viable subpopulations of Parachute beardtongue (Anvil Points, Logan Wash Mine and Natural Area, Mount Callahan Natural Area, and Mount Callahan Saddle Natural Area) are represented in at least one ex-situ (off-site) seed collection that is managed according to the Center for Plant Conservation guidelines (Guerrant et al. 2004). If and when new subpopulations are discovered, the ex-situ seed collection should be updated to represent genetic diversity across the range of the species.

Peer Review

In accordance with our July 1, 1994, peer review policy (59 FR 34270; July 1, 1994); our August 22, 2016, Director's Memo on the Peer Review Process; and the Office of Management and Budget's December 16, 2004, Final Information Quality Bulletin for Peer Review (revised June 2012), we solicited the expert opinions of at least three appropriate and independent specialists regarding scientific data and interpretations contained in our SSA report for Parachute beardtongue (Service 2020). Peer review of the SSA report was completed in June 2019, and we ensured that the opinions of peer reviewers were objective and unbiased by following the guidelines set forth in the Director's Memo, which updates and clarifies Service policy on peer review (U.S. Fish and Wildlife Service 2016). The purpose of such review is to ensure that our decisions are based on scientifically sound data, assumptions, and analysis. Accordingly, our final SSA report and recovery plan may differ from the draft documents. The results of this structured peer review process are posted on our website at https://www.fws.gov/mountain-prairie/science/peerReview.php. We also submitted our SSA report to our Federal and State partners for their scientific review. The SSA report is the scientific foundation for this draft recovery plan.

Request for Public Comments

This notice opens the public review and comment period for our draft recovery plan for the Parachute Beardtongue. Section 4(f) of the Act requires that we provide public notice and an opportunity for public review and comment during the development of recovery plans. All comments we receive by the date specified (see DATES) will be considered prior to approval of the recovery plan. Written comments and materials regarding the recovery plan should be sent via one of the means in the ADDRESSES section. We will consider all information we receive during the public comment period, and particularly look for comments that provide scientific rationale or factual background. The Service and other Federal agencies and partners will take these comments into consideration in the course of implementing an approved final recovery plan. We are specifically seeking comments and suggestions on the following questions:

• Understanding that the time and cost presented in the draft recovery plan will be fine-tuned when localized recovery implementation strategies are developed, do you think that the estimated time and cost to recovery are realistic? Is the estimate reflective of the time and cost of actions that may have already been implemented by Federal, State, county, or other agencies? Please provide suggestions or methods for determining a more accurate estimation.

• Do the draft recovery criteria provide clear direction to partners on what is needed to recover Parachute beardtongue? How could they be improved for clarity?

• Are the draft recovery criteria both objective and measurable given the information available for Parachute beardtongue, now and into the future? Please provide suggestions.

• Understanding that specific, detailed, and area-specific recovery actions will be developed in the RIS, do the draft recovery actions presented in the draft recovery plan generally cover the types of actions necessary to meet the recovery criteria? If not, what general actions are missing? Are any of the draft recovery actions unnecessary for achieving recovery? Have we prioritized the actions appropriately?

Public Availability of Comments

We will summarize and respond to the issues raised by the public in an appendix to the approved final recovery plan. Before including your address, phone number, email address, or other personal identifying information in your comment, you should be aware that your comment—including your personal identifying information—may be made publicly available at any time. You may request at the top of your comment that we withhold this information from public review; however, we cannot guarantee that we will be able to do so.

Authority

The authority for this action is section 4(f) of the Endangered Species Act, 16 U.S.C. 1533(f).

Anna Muñoz,
Acting Deputy Regional Director, Lakewood, Colorado.

[FR Doc. 2021-27014 Filed 12-13-21; 8:45 am]

BILLING CODE 4333-15-P